DEPARTMENT OF ENERGY

Federal Energy Regulatory Commission

[Docket No. RP07-473-000]

National Energy & Trade, LP, Complainant v. Texas Gas Transmission, LLC, Gulf South Pipeline Company, LP, Respondents; Notice of Complaint Requesting Fast Track Processing

June 5, 2007.

Take notice that on June 4, 2007, National Energy & Trade, LP (Complainant), pursuant to section 206 of the Commission's Rules of Practice and Procedures, 18 CFR 385.206, filed a complaint against Texas Gas Transmission, LLC (Texas Gas) and Gulf South Pipeline, LP (Gulf South) alleging that, Texas Gas failed to follow its FERC Gas Tariff and Commission policy in awarding capacity to its affiliate, Gulf South, and Sequent Energy Management, LP (Sequent); Texas Gas violated the Natural Gas Act in awarding capacity to Gulf South in an unduly discriminatory and preferential manner, and Texas Gas and Gulf South engaged in market manipulation in violation of the Energy Policy Act of 2005.

The Complainant states that a copy of the complaint has been served on Texas Gas and Gulf South.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time June 25, 2007.

Kimberly D. Bose,
Secretary.

[FR Doc. E7-11346 Filed 6-12-07; 8:45 am]

BILLING CODE 6717-01-P